DEPARTMENT OF HOUSING AND URBAN DEVELOPMENT

[Docket No. FR-5030-FA-19]

Announcement of Funding Awards for Fiscal Year 2006 Hispanic-Serving Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2005 Hispanic-Serving Institutions Assisting Communities (HSIAC) Program. The purpose of this document is to announce the names, addresses and the amount awarded to the winners to be used to help Hispanic-Serving Institutions of higher education to expand their role and effectiveness in addressing community development needs in their localities, consistent with the purposes of Title I of the Housing and Community Development Act of 1974 as amended.

FOR FURTHER INFORMATION CONTACT: Susan Brunson, Office of University Partnerships, U.S. Department of Housing and Urban Development, 451 Seventh Street, SW., Room 8106, Washington, DC 20410, telephone (202) 708-3061, extension 3852. To provide service for persons who are hearing-or-speech-impaired, this number may be reached via TTY by Dialing the Federal Information Relay Service on (800) 877-8339 or (202) 708-1455. (Telephone numbers, other than “800” TTY numbers, are not toll free).

SUPPLEMENTARY INFORMATION: The Hispanic-Serving Institutions Assisting Communities Program was approved by Congress under section 107 of the Community Development Block Grant (CDBG) appropriations for the Fiscal Year 2006, and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On March 8, 2006, (71 FR 11756), HUD published a Notice of Funding Availability (NOFA) announcing the availability of $5.94 million in Fiscal Year 2006, plus $78,000 in previously unobligated funds for the HSIAC Program. The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2006 Hispanic-Serving Institutions Assisting Communities Program Funding Competition, by Institution, Address and Grant Amount

Region I

1. Urban College of Boston, Ms. Shelia Taylor-King, Urban College of Boston, 178 Tremont Street, Boston, MA 02111-1093. Grant: $600,000.

Region II

2. Passaic County Community College, Mr. Todd Sorber, Passaic County Community College, One College Boulevard, Paterson, NJ 07505. Grant: $597,035.

Region IV

3. Universidad Del Este, Mr. Alberto Maldonado-Ruiz, Universidad Del Este, CARR 190 Road km 1.8, Avenue Principle Sabana bo, Sabana Abajo, Carolina, PR 00983. Grant: $600,000.

4. University of Puerto Rico at Humacao, Dr. Hilda M. Colon-Plumay, University of Puerto Rico at Humacao, Office of the Chancellor, 100 Street 908th Road, Humacao, PR 00791-4300. Grant: $583,284.

5. Universidad del Turabo, SUAGM, Ms. Betsy Vidal, Universidad del Turabo, SUAGM, State Road 189, km. 3.3. Gurabo, PR 00778-3030. Grant: $599,635.

Region VI

6. Mesalands Community College, Mr. David Buchen, Mesalands Community College, 911 South Tenth Street, Tucumcari, NM 88401. Grant: $600,000.

7. San Jacinto College North, Dr. Richard Bailey, San Jacinto College North, 5800 Uvalde Street, Houston, TX 77049. Grant: $599,815.

8. University of Texas at San Antonio, Dr. Harriett Romo, University of Texas at San Antonio, 501 West Durango Boulevard, Frio Street, Building 4.418, San Antonio, TX 78207. Grant: $599,984.

Region IX

9. Yosemite Community College District-Modesto Junior College, Ms. Judith Monast, Yosemite Community College District-Modesto Junior College, 2201 Blue Gum Avenue, Modesto, CA 95352. Grant: $527,290.

Region X

10. Columbia Basin College, Ms. Evangelina Galvan-Holt, Columbia Basin College, 2600 North 20th Avenue, Pasco, WA 99301. Grant: $600,000.

Dated: September 21, 2006.
Darlene F. Williams,
Assistant Secretary.

[FR Doc. E6-16714 Filed 10-10-06; 8:45 am]

BILLING CODE 4210-67-P